DEPARTMENT OF LABOR

Employment and Training Administration

[TA-W-65,364]

SUMCO Phoenix Corporation, Sumco Southwest Corporation, a Subsidiary of SUMCO Corporation, Phoenix, AZ; Notice of Termination of Investigation

Pursuant to Section 221 of the Trade Act of 1974, as amended, an investigation was initiated on February 24, 2009, in response to a worker petition filed by a State Workforce Office on behalf of workers at SUMCO Phoenix Corporation, SUMCO Southwest Corporation, a subsidiary of SUMCO Corporation, Phoenix, Arizona.

The petitioner has requested that the petition be withdrawn. Consequently, the investigation has been terminated.

Signed at Washington, DC, this 26th day of March 2009.
Linda G. Poole,
Certifying Officer, Division of Trade Adjustment Assistance.

[FR Doc. E9-8928 Filed 4-17-09; 8:45 am]

BILLING CODE 4510-FN-P